Proclamation 10344 of February 28, 2022

National Colorectal Cancer Awareness Month, 2022

By the President of the United States of America

A Proclamation

Cancer is personal to nearly every family, including my own. Each year, more than 50,000 families across the country lose a loved one to colorectal cancer—the fourth most common cancer and the second leading cause of cancer deaths in America. The toll it exacts is immeasurable, but when we detect colorectal cancer early, we can save lives and deliver hope. During National Colorectal Cancer Awareness Month, we raise awareness of this dreaded disease and renew our commitment to ending cancer as we know it.

While anyone can be afflicted by colorectal cancer, we know that this illness strikes at a disproportionate rate among Black Americans as well as Americans over the age of 50. Getting regular screenings and identifying symptoms and risk factors are both pivotal to saving lives. According to the Centers for Disease Control and Prevention, symptoms such as blood in the stool, a change in bowel habits, stomach pain, bloating, cramps that do not go away, or weight loss without a known cause should be discussed with a health care provider. However, early stages of colorectal cancer often emerge without symptoms, and it is important to begin regular screenings starting at the age of 45.

In addition, people who smoke, consume alcohol, or are obese are more likely to be diagnosed with colorectal cancer. Adopting healthy behaviors—including quitting the use of tobacco products, reducing alcohol consumption, and eating meals that include fruits, vegetables, and whole grains—can also reduce your risk. For more information on risk factors, please visit www.Cancer.gov.

I believe that it is within our power to end cancer as we know it. That is why I have re-ignited the Cancer Moonshot and set new ambitious goals, to reduce the death rate from cancer by 50 percent over the next 25 years and to improve the lives of people and their families living with and surviving cancer. I have called on the Congress to create the Advanced Research Projects Agency for Health (ARPA-H), which will invest billions of dollars to advance breakthroughs in the prevention, detection, and treatment of cancer and other deadly diseases. As we continue to pursue game-changing scientific breakthroughs, my Administration also remains steadfast in our commitment to increasing colorectal cancer screenings, follow-ups, and referrals, with a particular focus on underserved populations. On February 2, 2022, the First Lady and I launched a call to action on cancer screening and early detection. Our goal is to jumpstart progress on potentially life-saving screenings that far too many Americans have missed as a result of the pandemic and help ensure that everyone in the United States benefits equitably from the tools we have to detect and diagnose cancer. We are calling on every American to get back on track with their recommended screenings, including colorectal cancer screenings, and for the public and private sectors to increase access to early detection for individuals and communities.

Ensuring that every American has access to quality, affordable health coverage is another critical way that we can win the fight against cancer. Thanks to the Affordable Care Act, most health insurance plans must cover certain preventive services with no out-of-pocket costs. This coverage now includes colorectal cancer screenings for adults over the age of 45, making it easier to get colorectal cancer screenings and helping improve access to earlier treatment. Health coverage under the Affordable Care Act has never been more accessible and affordable than it is today, and I encourage all Americans to learn more by visiting www.HealthCare.gov.

During National Colorectal Cancer Awareness Month, I urge every American to exercise vigilance around their own health and the health of their loved ones. Early diagnosis and treatment save lives—and getting screened for colorectal cancer is vitally important as we continue our shared mission to end cancer as we know it.

NOW, THEREFORE, I, JOSEPH R. BIDEN JR., President of the United States of America, by virtue of the authority vested in me by the Constitution and the laws of the United States, do hereby proclaim March 2022 as National Colorectal Cancer Awareness Month. I encourage all citizens, government agencies, private businesses, non-profit organizations, and other groups to join in activities that will increase awareness and prevention of colorectal cancer.

IN WITNESS WHEREOF, I have hereunto set my hand this twenty-eighth day of February, in the year of our Lord two thousand twenty-two, and of the Independence of the United States of America the two hundred and forty-sixth.

[FR Doc. 2022-04613

Filed 3-2-22; 8:45 am]

Billing code 3395-F2-P